DEPARTMENT OF COMMERCE

National Oceanic and Atmospheric Administration

[I.D. 071100A]

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 15-17, 2000. The Council will convene on Wednesday, August 16, 2000, from 9:00 a.m. to 5:00 p.m., through Thursday, August 17, 2000, from 9:00 a.m. until noon, approximately.

The Administrative Committee will meet on Tuesday, August 15, 2000, from 2:00 p.m. to 5:00 p.m., to discuss administrative matters regarding Council operation.

ADDRESSES: All meetings will be held at the Windward Passage Holiday Inn Hotel, located at Veterans Drive, Charlotte Amalie, St. Thomas, U.S.V.I.

FOR FURTHER INFORMATION CONTACT: Caribbean Fishery Management Council, 268 Munoz Rivera Avenue, Suite 1108, San Juan, Puerto Rico 00918-2577; telephone: (787) 766-5926.

SUPPLEMENTARY INFORMATION: The Council will hold its 101st regular public meeting to discuss the items contained in the following agenda:

Call to Order

Adoption of Agenda

Consideration of 100th Council Meeting Summary Minutes

Executive Director's Report

Outreach Program Sea Grant

Coral Fishery Management Plan (FMP)

—Marine Conservation District Research Progress Report

—Coral Reef Task Force

Dolphin/Wahoo FMP

—Public Hearings Report

—Final Action in the Ten Measures for the Gulf, South Atlantic and Caribbean

—Councils' Areas

Reef Fish FMP

—Discussion on Next Amendment to the Reeffish FMP

Queen Conch FMP

—Amendment Number 1 Public Hearings Report

—Regulatory Impact Review

Enforcement

—Federal Government

—Puerto Rico

—U.S. Virgin Islands

Administrative Committee Recommendations

Meetings Attended by Council Members and Staff

Other Business

Next Council Meeting

The meetings are open to the public, and will be conducted in English. Fishers and other interested persons are invited to attend and participate with oral or written statements regarding agenda issues.

Although non-emergency issues not contained in this agenda may come before this Council for discussion, those issues may not be the subject of formal action during this meeting. Action will be restricted to those issues specifically identified in this notice and any issues arising after publication of this notice that require emergency action under Section 305(c) of the Magnuson-Stevens Fishery Conservation and Management Act, provided the public has been notified of the Council's intent to take action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-2577, telephone (787) 766-5926, at least 5 days prior to the meeting date.

Dated: July 11, 2000.
Richard W. Surdi,
Acting Director, Office of Sustainable Fisheries, National Marine Fisheries Service.

[FR Doc. 00-18016 Filed 7-14-00; 8:45 am]

BILLING CODE 3510-22-P